DEPARTMENT OF JUSTICE

Antitrust Division

Notice Pursuant to the National Cooperative Research and Production Act of 1993—The Frame Relay Forum

Notice is hereby given that, on December 29, 1997, pursuant to section 6(a) of the National Cooperative Research and Production Act of 1993, 15 U.S.C. 4301 et seq. (“the Act”), The Frame Relay Forum (“Forum”) has filed written notifications simultaneously with the Attorney General and the Federal Trade Commission disclosing changes in its membership status. The notifications were filed for the purpose of extending the Act's provisions limiting the recovery of antitrust plaintiffs to actual damages under specified circumstances. Specifically, the following have joined the Forum as worldwide members: Castleton Network Systems Corp., Burnaby, British Columbia, Canada; Cegetel Enterprises, Puteux, France; Deutsche Telekom, Darmstadt, Germany; France Telecom/Tranpac, Issy Les Moulingaux, France; Ni/fn, Carlsbad, CA; Hitachi Telecom (USA) Inc., Norcross, GA; Kaspia Systems, Inc., Beaverton, OR; Network General Corp., Oakbrook Terrace, IL; OLICOM, Gdansk, Poland; Siemens AG, Munich, Germany; SHIVA, Edinburgh, Scotland, United Kingdom ; Trend Communications, Chantilly, VA; and Yurie Systems, Inc., Landover, VA. The following members have joined the Forum as auditing members: Chair for Computer Networks, Dresden, Germany; Mantis Technology, New York, NY; Mobile Comm, Irving, TX; and RD6, Inc., Montreal, Quebec, Canada.

No other changes have been made in either the membership or planned activity of the group research project. Membership in this group research project remains open, and The Frame Relay Forum intends to file additional written notification disclosing all changes in membership.

On April 10, 1992, The Frame Relay Forum filed its original notification pursuant to section 6(a) of the Act. The Department of Justice published a notice in the Federal Register pursuant to section 6(b) of the Act on July 2, 1992 (57 FR 29537).

The last notification was filed with the Department on June 10, 1997. A notice was published in the Federal Register pursuant to section 6(b) of the Act on July 25, 1997 (62 FR 40107).

Constance K. Robinson,
Director of Operations, Antitrust Division.

[FR Doc. 00-20304 Filed 8-10-00; 8:45 am]

BILLING CODE 4410-11-M